DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning FEMA contractors who plan meetings, conferences and seminars, submit a plan or report to FEMA detailing how the minimum accessibility standards for the disabled are being met.

SUPPLEMENTARY INFORMATION: Section 504 of the Rehabilitation Act of 1973, as amended, prohibits Federal agencies from discriminating against qualified persons on the grounds of disability. The law not only applies to internal employment practices but also extends to agency interaction with members of the public who participate in FEMA programs. (FEMA's implementation of Section 504 of this Act is codified in 44 CFR Part 16.) Contractors who plan meetings, conferences, or seminars for FEMA must develop a plan to ensure that minimum accessibility standards for the disabled as set forth in the contract clause will be met. The plan must be approved by a FEMA Contracting Officer.

Collection of Information:

Title: FEMA Contract Clause—Accessibility of Meetings, Conferences and Seminars to Persons with Disabilities.

Type of Information Collection: Extension of a currently approved collection.

OMB Number: 1660-0028.

Abstract: Contractors who plan meetings, conferences or seminars for FEMA must submit a plan to the Contracting Officer detailing how the minimum accessibility standards for the disabled set forth in the contract clause will be met.

Affected Public: Business and other for-profit.

Estimated Total Annual Burden Hours: 30 hours. FEMA estimates that a maximum of 10 FEMA contracts will be awarded per year, which may require compliance with this clause. Hour burden response is estimated at 3 hours per respondent. There would be one response per year per contract, using a consolidated plan for multiple meetings under the contract.

Estimated Cost: The annual cost to respondents is estimated to be $1,033 ($34.44 per hour × 3 hours per respondent × 10 responses.) Annual costs to the Federal Government is estimated at $689.00, which includes the cost for reviewing each plan by one Contracting Officer and one Equal Rights Manager ($34.44 per hour × 1 hour per review × 10 plans) × 2).

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Nancy Costello, Contract Specialist, Financial and Acquisitions Management Division, (202) 646-4347 for additional information. You may contact Ms. Anderson for copies of the proposed collection of information at facsimile number (202) 646-3347 or e-mail address: FEMA-Information-Collections@dhs.gov.

Dated: August 23, 2004.
Edward W. Kernan,
Branch Chief, Information Resources Management Branch, Information Technology Services Division.

[FR Doc. 04-19794 Filed 8-31-04; 8:45 am]

BILLING CODE 9110-07-P